DEPARTMENT OF JUSTICE

Notice of Lodging of Consent Decree Under the Comprehensive Environmental Response, Compensation, and Liability Act

Under 42 U.S.C. 9622(d)(2), 42 U.S.C. 6973(d), and 28 C.F.R. 50.7, notice is hereby given that on October 1, 2003, a proposed Consent Decree in United States and the State of Wisconsin v. P.H. Glatfelter Company and WTM I Company, Civil Action No. 03-C-949 (E.D. Wis.) was lodged with the United States District Court for the Eastern District of Wisconsin.

The Consent Decree concerns polychlorinated biphenyl (“PCB”) contamination in the portion of the Lower Fox River and Green Bay Site designated as Operable Unit 1. Under the proposed settlement set forth in the Consent Decree, P.H. Glatfelter Company and WTM I Company (the “Defendants”) would implement the cleanup remedy for Operable Unit 1 that was selected in a December 2002 Record of Decision issued jointly by the U.S. Environmental Protection Agency (“EPA”) and the Wisconsin Department of Natural Resources (“WDNR”). The Defendants would pay for that remedial action work using a specially-dedicated fund to be established by the companies. That fund would ultimately hold more than $60 million, including $50 million from the Defendants, an additional $10 million available under a prior interim settlement with Appleton Paper Inc. and NCR Corporation, and all interest earned on the money placed in the fund. If that dedicated fund is not sufficient to finance the completion of the work, the Consent Decree reserves the Plaintiffs' rights to require the Defendants to perform or pay for the continuation and completion of the work. The settlement would not resolve the Defendants' potential liability for response activities or response costs relating to areas of the Site other than Operable Unit 1. The Consent Decree also would require the Defendants to pay $3,000,000 for natural resource damages and $1,050,000 as partial reimbursement of past costs incurred by EPA, WDNR, and the U.S. Department of the Interior. Even so, the Consent Decree would not resolve the Defendant's potential liability for payment of additional natural resources damages or for additional unreimbursed past costs incurred by the United States or the State of Wisconsin.

The United States intends to hold a public meeting regarding the Consent Decree in the affected area, in accordance with Section 7003(d) of the Resource Conservation and Recovery Act, 42 U.S.C. 6973(d). The meeting will be held at the Neenah Public Library, 240 E. Wisconsin Street in Neenah, from 7:00 p.m. to 9 p.m. on Wednesday, October 29, 2003. Representatives of the Department of Justice, EPA, and WDNR will attend the public meeting to provide information and to answer questions concerning the Consent Decree. Formal comments relating to the Consent Decree will not be accepted in oral form at the public meeting. Any such comments should be submitted in writing as described below.

The Department of Justice will receive comments relating to the Consent Decree for a period of thirty (30) days from the date of this publication. Comments should be addressed to the Assistant Attorney General, Environment and Natural Resources Division, P.O. Box 7611, U.S. Department of Justice, Washington, DC 20044-7611, and should refer to United States and the State of Wisconsin v. P. H. Glatfleter Company and WTM I Company, Civil Action No. 03-C-949 (E.D. Wis.) and D.J. Ref. 90-11-2-1045/2.

The Consent Decree may be examined at: (1) The offices of the United States Attorney, 517 E. Wisconsin Avenue, Room 530, Milwaukee, Wisconsin; and (2) the offices of EPA Region 5, 77 West Jackson Boulevard, 14th Floor, Chicago, Illinois. During the public comment period, the Consent Decree may also be examined on the following Department of Justice Web site, http://www.usdoj.gov/enrd/open.htm. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $77.00 (308 pages at 25 cents per page reproduction cost) payable to the U.S. Treasury. For a copy of the Consent Decree alone, without appendices, please enclose a check a check in the amount of $27.50 (110 pages at 25 cents per page reproduction cost) payable to the U.S. Treasury.

William D. Brighton,
Assistant Chief, Environmental Enforcement Section, Environment and Natural Resources Division.

[FR Doc. 03-26244 Filed 10-16-03; 8:45 am]

BILLING CODE 4410-15-M